DEPARTMENT OF JUSTICE

Antitrust Division

Notice Pursuant to the National Cooperative Research and Production Act of 1993—Maritime Sustainment and Technology Innovation Consortium

Notice is hereby given that, on April 6, 2023, pursuant to Section 6(a) of the National Cooperative Research and Production Act of 1993, 15 U.S.C. 4301 et seq. (“the Act”), Maritime Sustainment and Technology Innovation Consortium (“MSTIC”) has filed written notifications simultaneously with the Attorney General and the Federal Trade Commission disclosing changes in its membership. The notifications were filed for the purpose of extending the Act's provisions limiting the recovery of antitrust plaintiffs to actual damages under specified circumstances. Specifically, Aerotek Affiliated Services, Inc., Hanover, MD; American Lightweight Materials Manufacturing Innovation Institute, Detroit, MI; AMMCON Corp., Hillsboro, OR; Asystek Solutions Group LLC, Bethlehem, PA; Black Oak Security, Portland, OR; Bradken Inc., Tacoma, WA; Buffalo Pumps, Inc., North Tonawanda, NY; Calnetix Technologies, LLC, Cerritos, CA; Carahsoft Technology Corporation, Reston, VA; Charles River Analytics, Cambridge, MA; CMA Technologies, Inc., Orlando, FL; Cogitic Corporation, Colorado Springs, CO; Compendium Federal Technology (CFT), Lexington Park, MD; Continental Tide Defense Systems, Inc., Wyomissing, PA; Cumberland Additive, Inc., Pflugerville, TX; Defense Industry Advisors, LLC, Dayton, OH; Elinor Coatings, LLC, Fargo, ND; Ellwood Group, Inc., New Castle, PA; Foursyte LLC, Ashburn, VA; General Electric GE Additive, West Chester, OH; Globe Tech, LLC, Plymouth Township, MI; GS Engineering, Inc., Houghton, MI; Hawk Technologies LLC, Houghton, MI; Imperial Machine & Tool Company, Columbia, NJ; KAI Solutions Inc., Marlton, NJ; Kato Engineering, Inc., North Mankato, MN; Keselowski Advanced Manufacturing, LLC, Statesville, NC; L3Harris Maritime Systems, Inc., Herndon, VA; Lockheed Martin Corporation—Rotary and Mission Systems, Moorestown, NJ; MDSA Group, Inc dba MDSA Aerospace, Exton, PA; MetalTek International, Waukesha, WI; Milcots LLC, Mahwah, NJ; MRL Materials Resources LLC, Beavercreek, OH; Old Dominion University Research Foundation, Norfolk, VA; Pacific Star Communications Inc., Portland, OR; Phillips Corporation, Hanover, MD; Prime Technology LLC, North Branford, CT; PTC, Inc., Boston, MA; Quoherent, Inc., Huntsville, AL; Razorleaf Government Solutions LLC, Akron, OH; RCT Systems, Inc., Baltimore, MD; Relativity Space, Inc., Long Beach, CA; Scot Forge, Spring Grove, IL; Syntek Technologies Inc., Fairfax, VA; Tachyon Networks LLC, San Diego, CA; The Lincoln Electric Company, Euclid, OH; THOR Solutions, LLC, Arlington, VA; Titan Diversified Holdings, Inc., Charlotte, NC; and XSITE LLC, San Diego, CA, have been added as parties to this venture.

No other changes have been made in either the membership or planned activity of the group research project. Membership in this group research project remains open, and MSTIC intends to file additional written notifications disclosing all changes in membership.

On October 21, 2020, MSTIC filed its original notification pursuant to Section 6(a) of the Act. The Department of Justice published a notice in the Federal Register pursuant to Section 6(b) of the Act on November 19, 2020 (85 FR 73750).

The last notification was filed with the Department on January 5, 2023. A notice was published in the Federal Register pursuant to Section 6(b) of the Act on January 25, 2023 (88 FR 4849).

Suzanne Morris,
Deputy Director, Civil Enforcement Operations, Antitrust Division.

[FR Doc. 2023-12522 Filed 6-9-23; 8:45 am]

BILLING CODE P